COMMITTEE FOR PURCHASE FROM PEOPLE WHO ARE BLIND OR SEVERELY DISABLED

Procurement List Deletions

AGENCY: Committee for Purchase from People Who Are Blind or Severely Disabled.

ACTION: Deletions from the Procurement List.

SUMMARY: This action deletes from the Procurement List products previously furnished by nonprofit agencies employing persons who are blind or have other severe disabilities.

DATES: Effective Date: April 13, 2008.

ADDRESSES: Committee for Purchase From People Who Are Blind or Severely Disabled, Jefferson Plaza 2, Suite 10800, 1421 Jefferson Davis Highway, Arlington, Virginia, 22202-3259.

FOR FURTHER INFORMATION CONTACT: Kimberly M. Zeich, Telephone: (703) 603-7740, Fax: (703) 603-0655, or e-mail CMTEFedReg@jwod.gov.

SUPPLEMENTARY INFORMATION:

Deletions:

On January 18, 2008, the Committee for Purchase From People Who Are Blind or Severely Disabled published notice (73 FR3451) of proposed deletions to the Procurement List.

After consideration of the relevant matter presented, the Committee has determined that the products listed below are no longer suitable for procurement by the Federal Government under 41 U.S.C. 46-48c and 41 CFR 51-2.4.

Regulatory Flexibility Act Certification

I certify that the following action will not have a significant impact on a substantial number of small entities. The major factors considered for this certification were:

1. The action should not result in additional reporting, recordkeeping or other compliance requirements for small entities.

2. The action may result in authorizing small entities to furnish the products to the Government.

3. There are no known regulatory alternatives which would accomplish the objectives of the Javits-Wagner-O'Day Act (41 U.S.C. 46-48c) in connection with the products deleted from the Procurement List.

End of Certification

Accordingly, the following products are deleted from the Procurement List:

Products

Hat, Sun, Universal Camouflage, ACU

NSN: 8415-01-519-8678—Size 6.375

NSN: 8415-01-519-8680—Size 6.5

NSN: 8415-01-519-8681—Size 6.625

NSN: 8415-01-519-8682—Size 6.75

NSN: 8415-01-519-8684—Size 6.875

NSN: 8415-01-519-8687—Size 7

NSN: 8415-01-519-8696—Size 7.125

NSN: 8415-01-519-8698—Size 7.25

NSN: 8415-01-519-8699—Size 7.375

NSN: 8415-01-519-8702—Size 7.5

NSN: 8415-01-519-8704—Size 7.625

NSN: 8415-01-519-8705—Size 7.75

NSN: 8415-01-519-8706—Size 7.875

NSN: 8415-01-519-8708—Size 8

NPA: Human Technologies Corporation, Utica, NY.

Contracting Activity: Defense Supply Center Philadelphia, Philadelphia, PA.

Trunk Locker, Plastic

NSN: 8460-01-471-1024—Green (Olive drab), Small

NSN: 8460-01-471-1035—Green (Olive drab), Large

NPA: Walterboro Vocational Rehabilitation Center, Walterboro, SC.

Contracting Activity: Defense Supply Center Philadelphia, Philadelphia, PA.

Kimberly M. Zeich,
Director, Program Operations.

[FR Doc. E8-5156 Filed 3-13-08; 8:45 am]

BILLING CODE 6353-01-P